DEPARTMENT OF INTERIOR

Bureau of Land Management

DEPARTMENT OF AGRICULTURE

Forest Service

[ID-075-1330-AC-241E]

North Rasmussen Ridge Mine, BLM Pocatello Field Office and Caribou-Targhee National Forest, Caribou County, ID

AGENCIES: Bureau of Land Management, USDI and Forest Service, USDA.

ACTION: Notice of intent to prepare an Environmental Impact Statement.

SUMMARY: Notice is hereby given that the Bureau of Land Management (BLM), Pocatello Field Office and the Department of Agriculture, Forest Service (USFS), Caribou-Targhee National Forest, will jointly prepare an Environmental Impact Statement (EIS) to document the analysis and disclose the environmental and human effects of the proposed North Rasmussen Ridge Mine and Reclamation Plan for future operations at the existing Rasmussen Ridge Mine, Caribou County, Idaho, located approximately 25 miles northeast of Soda Springs, Idaho. The proposed mining operations would utilize land administered by the U.S. Forest Service and Bureau of Land Management. Mining will take place on Federal Phosphate Leases I-04375, I-07619 within the Caribou-Targhee National Forest, and in State Lease I-7957 adjacent the Federal Phosphate Leases.

Nu-West Industries, Inc. (Agrium) must obtain federal and state permits prior to mining under the proposed mine plan. The existing mining operation was authorized by Decision Records (DR) associated with two environmental analyses prepared—the DR first issued in 1990 for the South Rasmussen Ridge Mine and the second DR in1997 for Central Rasmussen Ridge Mine. The conditional permits granted by the BLM and USFS at the beginning of the Rasmussen Ridge mining operations required that subsequent site-specific mine plans for the individual mine panels be submitted to the agencies for their review and that appropriate mitigation measures be developed using further environmental analysis.

The environmental effects from the South and Central Rasmussen Ridge mining panels were assessed in the 1990 and 1997 EAs, however this EIS would evaluate the effects of the proposed North Rasmussen Ridge Mine and Reclamation Plan in light of additional information on selenium and other potential contaminants collected since 1997. Based on the EIS analysis, the BLM would make decisions regarding the North Rasmussen Ridge Mine and Reclamation Plan and additional land use authorizations for the proposed mining activities, including lease modifications by the BLM. In addition, a Section 404, Clean Water Act permit may be required by the U.S. Army Corps of Engineers (Corps) for the proposed operations.

Agency Decisions: The BLM Pocatello Field Office Manager, who is the responsible official for the EIS and administers mineral development activities on Federal leases, will consider approval of a mine and reclamation plan. The Caribou-Targhee National Forest Supervisor, who is the responsible official for Caribou-Targhee National Forest lands not on-lease, would make a related recommendation of appropriate land use authorizations regarding this proposal. The recommendation and decision will include consideration of scoping comments and responses; anticipated environmental consequences discussed in the EIS; and applicable laws, regulations, and policies. Decisions may include approval of site-specific Mine and Reclamation Plans; issuance of phosphate lease modifications by the BLM; and possible modification of existing special use permits for roads, ponds, and ditches by the USFS. A Section 404 Clean Water Act Permit may also be required by the Corps. They would render a decision related to that permit and how to mitigate the impacts to affected wetlands and Waters of the United States.

DATES: Written comments concerning the scope of the analysis described in this Notice should be received on or before June 18, 2001.

Scoping Procedure: The scoping procedure to be used for this EIS will involve the following: a broad mailing asking for comments, issues and concerns to interested and potentially affected individuals, groups, Federal, State and local government; news releases or legal notices; and public scoping meetings.

ADDRESSES: Send written comments to Jerry Koblitz, Greystone Environmental Consultants, Inc., 5231 Quebec Street, Greenwood Village, CO 80111. They may also be submitted by e-mail to jkoblitz@greystone-consultants.com.

FOR FURTHER INFORMATION CONTACT: Wendell Johnson, Bureau of Land Management, Pocatello Field Office, 1111 N. 8th Ave., Pocatello, Idaho 83201, phone (208) 478-6353; or Darrel VandeWeg, Caribou-Targhee National Forest, Soda Springs Ranger District, 421 W. Second South, Soda Springs, Idaho 83276, phone (208) 547-4356.

SUPPLEMENTARY INFORMATION: The proposed mining activities consist of the extension of open pit mining to the northern end of Lease I-04375, into State Lease I-7957, then into Federal Lease I-07619—known as North Rasmussen Ridge. In addition, a topsoil stockpile, haul road, and runoff/sediment control facilities would be constructed. Mining would include best management practices for control of releases of sediment and dissolved metals. The proposed open pits would be located along Rasmussen Ridge and would cross the upper west fork of an ephemeral stream known locally as No Name Creek. The creek would be temporarily diverted, then reestablished in it's original location after mining has been concluded. A haulroad would be constructed on the east side of the proposed open pit and would extend along the hillside adjacent to the upper west fork of Sheep Creek and into the upper reach of Reese Canyon. The existing Forest Service road that was built for timber access into upper Sheep Creek has been temporarily closed to the public. The road would remain closed until mining has been completed in Central and North Rasmussen Ridge. The public would be allowed access into the upper Sheep Creek using the existing USFS road DFR 192 from Lanes Creek to Midnight Springs.

Existing mine, haul roads, maintenance, and administrative facilities would be used during the mine period. Ore from the North Rasmussen Ridge Mine would be hauled by truck to Agrium's railroad loading facility located on private property in Wooley Valley. Ore is then transported to Agrium's Conda Plant located approximately seven miles north of Soda Springs, Idaho. Overburden from the mining activity would be used to backfill previously mined panels in Central and North Rasmussen Ridge.

Disturbed lands directly resulting from the proposed activities would total 329.1 acres. The new pits would include 254.6 acres and the rest of the disturbed acreage would be for roads, ponds, and growth media piles. Approximately 248.4 acres of the proposed disturbance would be reclaimed by backfilling most of the proposed open pit areas, regrading fill slopes, spreading topsoil, planting of appropriate vegetation, and installation and maintenance of runoff and sediment control facilities.

The BLM and USFS believe, at this early stage, it is important to give reviewers notice of several court rulings, related to public participation in the environmental review process. First, reviewers of draft EISs must structure their participation in the environmental review of the proposal so that it is meaningful and alerts an agency to reviewer's position and contentions. Vermont Yankee Nuclear Power Corp. v. NRDC, 435 U.S. 519,553 (1978). Also, environmental objections that could be raised at the draft EIS stage but that are not raised until after completion of the final EIS may be waived or dismissed by the courts. City of Angoon v. Hodel, 803 F. 2d 1016, 1022 (9th Cir. 1986) and Wisconsin Heritages, Inc. v. Harris, 490 F. Supp. 1334, 1338 (E.D. Wis. 1980). Because of these court rulings, it is very important that those interested in this proposed action participate by the close of the 60-day comment period for the draft EIS so that substantive comments and objections are made available to the BLM and USFS at a time when it can meaningfully consider them and respond to them in the final EIS.

Preliminary Issues

Initially identified issues include potential effects on: ground water and surface water quantity and quality, wildlife and their habitats, livestock grazing, wetlands and riparian habitat, socio-economics, and development of best management practices for mine operations.

Possible Alternatives

The EIS will analyze the Proposed Action and No Action Alternatives. Other alternatives may include alterations to portions of the proposed mining plan or sequence and design parameters to provide mitigation for resources of concern.

Tentative EIS Project Schedule

The tentative project schedule is as follows:

• Begin Public Comment Period—April, 2001

• Hold Public Scoping Meetings—May, 2001

• Estimated date for Draft EIS—May, 2002

• Public Comment Period on Draft EIS—60 days from when the Notice of Availability is published in the Federal Register

• Final EIS—September 2002

• Record of Decision—October 2002

Public Scoping Meetings

Two public scoping meetings will be held, each an open house, from 7:00 PM-9:00 PM. The open houses would include displays explaining the project and a forum for commenting on the project. Scoping meetings will be held in the Soda Springs City Office Building, Soda Springs, Idaho, and in the BLM Field Office, Pocatello, Idaho. Dates for the two scoping meetings will be published in the Caribou County Sun and in the Idaho State Journal newspapers.

Public Input Requested

The BLM and USFS are seeking information and written comments from Federal, State and local agencies as well as individuals and organizations who may be interested in, or affected by, the proposed action. To assist the BLM and USFS in identifying and considering issues and concerns related to the proposed action, comments for scoping, and later for the Draft EIS, should be as specific as possible. Referring to specific pages or chapters of the EIS or the merits of the alternatives formulated and discussed in the EIS is most helpful. All scoping comments are due 30 days after publication in the Idaho State Journal.

Dated: April 18, 2001.
Jeff S. Steele,
BLM Pocatello Field Manager.
Jerry Reese,

Forest Supervisor, Caribou-Targhee National Forest.

[FR Doc. 01-12512 Filed 5-17-01; 8:45 am]

BILLING CODE 4310-GG-P